DEPARTMENT OF STATE

[Public Notice: 11722]

Determination Pursuant to the Foreign Missions Act

Effective at 12:00 p.m. March 16, 2022, the Embassy of Afghanistan and Afghanistan's consular posts at Beverly Hills, CA and New York, NY formally ceased conducting diplomatic and consular activities in the United States. A protecting power or other agent charged with responsibility for the property of said missions has not been requested, nor approved by the Secretary of State.

In accordance with section 205 (c) of the Foreign Missions Act (22 U.S.C. 4305 (c)) and until further notice, the Department of State's Office of Foreign Missions has assumed sole responsibility for ensuring the protection and preservation of the property of the referenced missions, including but not limited to all real and tangible property, furnishings, archives, and financial assets of the Afghan Embassy or its consular posts in the United States.

In exercise of this custodial responsibility, and pursuant to the authority vested in the Secretary of State by the laws of the United States including the Foreign Missions Act (22 U.S.C. 4301 et seq.) and delegated pursuant to Department of State Delegation of Authority No. 214, dated September 30, 1994, I further determine that entry or access to the following locations and facilities is strictly prohibited unless prior authorization is granted by the Office of Foreign Missions:

• 2341 Wyoming Avenue NW, Washington, DC 20008

• 120 S Doheny Drive, Beverly Hills, CA 90211

• 34-03 255th Street, Little Neck, NY 20008

Clifton C. Seagroves,
Acting Director, Office of Foreign Missions, Department of State.

[FR Doc. 2022-10639 Filed 5-17-22; 8:45 am]

BILLING CODE 4711-07-P